DEPARTMENT OF LABOR

Employment and Training Administration

[TA-W-55,943]

Clinton Tube (USA), Plattsburgh, NY; Notice of Termination of Investigation

Pursuant to Section 221 of the Trade Act of 1974, an investigation was initiated on November 5, 2004 in response to a petition filed by a company official on behalf of workers at Clinton Tube (USA), Plattsburgh, New York.

The petitioner has requested that the petition be withdrawn. Consequently, the investigation has been terminated.

Signed in Washington, DC, this 17th day of November 2004.
Linda G. Poole,
Certifying Officer, Division of Trade Adjustment Assistance.

[FR Doc. E4-3374 Filed 11-29-04; 8:45 am]

BILLING CODE 4510-30-P